FEDERAL RESERVE SYSTEM

Formations of, Acquisitions by, and Mergers of Bank Holding Companies; Correction

This notice corrects a notice (FR Doc. 03-9970) published on page 20000 of the issue for Wednesday, April 23, 2003.

Under the Federal Reserve Bank of Kansas City heading, the entry for One Rich Hill Mining LLC, and One Rich Hill Land Ltd., Partnership, both of Tulsa, Oklahoma, is revised to read as follows:

A. Federal Reserve Bank of Kansas City (Susan Zubradt, Assistant Vice President) 925 Grand Avenue, Kansas City, Missouri 64198-0001:

1. One Rich Hill Mining LLC; and One Rich Hill Land Ltd., Partnership, both of Fort Worth, Texas; to become bank holding companies by acquiring 25.44 percent of the voting shares of F&M Bancorporation, and thereby indirectly acquire shares of F&M Bank & Trust Company, both in Tulsa, Oklahoma.

Comments on this application must be received by May 16, 2003.

Board of Governors of the Federal Reserve System, April 24, 2003.
Robert deV. Frierson,
Deputy Secretary of the Board.

[FR Doc. 03-10564 Filed 4-28-03; 8:45 am]

BILLING CODE 6210-01-S